DEPARTMENT OF HOMELAND SECURITY

Federal Emergency Management Agency

[Docket ID FEMA-2023-0002; Internal Agency Docket No. FEMA-B-2349]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Arizona
Coconino | Unincorporated Areas of Coconino County (22-09-1015P). | The Honorable Patrice Horstman, Chair, Board of Supervisors, Coconino County, 219 East Cherry Avenue, Flagstaff, AZ 86001. | Coconino County Flood Control District, 5600 East Commerce Avenue, Flagstaff, AZ 86004. | https://msc.fema.gov/portal/advanceSearch. | Aug. 31, 2023 | 040019
Maricopa | City of Glendale (23-09-0136P). | The Honorable Jerry P. Weiers, Mayor, City of Glendale, 5850 West Glendale Avenue, Suite 451, Glendale, AZ 85301. | City Hall, 5850 West Glendale Avenue, Glendale, AZ 85301. | https://msc.fema.gov/portal/advanceSearch. | Aug. 25, 2023 | 040045
Maricopa | City of Goodyear (22-09-1721P). | The Honorable Joe Pizzillo, Mayor, City of Goodyear, 1900 North Civic Square, Goodyear, AZ 85395. | Engineering and Development Services, 14455 West Van Buren Street, Suite D101, Goodyear, AZ 85338. | https://msc.fema.gov/portal/advanceSearch. | Aug. 18, 2023 | 040046
Maricopa | City of Peoria (23-09-0064P). | The Honorable Jason Beck, Mayor, City of Peoria, 8401 West Monroe Street, Peoria, AZ 85345. | City Hall, 8401 West Monroe Street, Peoria, AZ 85345. | https://msc.fema.gov/portal/advanceSearch. | Sep. 8, 2023 | 040050
Maricopa | City of Phoenix (22-09-0990P). | The Honorable Kate Gallego, Mayor, City of Phoenix, City Hall, 200 West Washington Street, 11th Floor, Phoenix, AZ 85003. | Street Transportation Department, 200 West Washington Street, 5th Floor, Phoenix, AZ 85003. | https://msc.fema.gov/portal/advanceSearch. | Sep. 1, 2023 | 040051
Maricopa | City of Surprise (23-09-0148P). | The Honorable Skip Hall, Mayor, City of Surprise, 16000 North Civic Center Plaza, Surprise, AZ 85374. | Public Works Department, Engineering Development Services, 16000 North Civic Center Plaza, Surprise, AZ 85374. | https://msc.fema.gov/portal/advanceSearch. | Sep. 22, 2023 | 040053
Maricopa | Town of Fountain Hills (22-09-1367P). | The Honorable Ginny Dickey, Mayor, Town of Fountain Hills, 16705 East Avenue of the Fountains, Fountain Hills, AZ 85268. | Town Hall, 16705 East Avenue of the Fountains, Fountain Hills, AZ 85268. | https://msc.fema.gov/portal/advanceSearch. | Sep. 21, 2023 | 040135
Maricopa | Unincorporated Areas of Maricopa County (22-09-0990P). | The Honorable Clint L. Hickman, Chair, Board of Supervisors, Maricopa County, 301 West Jefferson Street, 10th Floor, Phoenix, AZ 85003. | Flood Control District of Maricopa County, 2801 West Durango Street, Phoenix, AZ 85009. | https://msc.fema.gov/portal/advanceSearch. | Sep. 1, 2023 | 040037
Maricopa | Unincorporated Areas of Maricopa County (23-09-0136P). | The Honorable Clint L. Hickman, Chair, Board of Supervisors, Maricopa County, 301 West Jefferson Street, 10th Floor Phoenix, AZ 85003. | Flood Control District of Maricopa County, 2801 West Durango Street, Phoenix, AZ 85009. | https://msc.fema.gov/portal/advanceSearch. | Aug. 25, 2023 | 040037
Maricopa | Unincorporated Areas of Maricopa County (23-09-0148P). | The Honorable Clint L. Hickman, Chair, Board of Supervisors, Maricopa County, 301 West Jefferson Street, 10th Floor, Phoenix, AZ 85003. | Flood Control District of Maricopa County, 2801 West Durango Street, Phoenix, AZ 85009. | https://msc.fema.gov/portal/advanceSearch. | Sep. 22, 2023 | 040037
Mohave | City of Lake Havasu City (23-09-0066P). | The Honorable Cal Sheehy, Mayor, City of Lake Havasu City, 2330 McCulloch Boulevard North, Lake Havasu City, AZ 86403. | City Hall, 2330 McCulloch Boulevard North, Lake Havasu City, AZ 86403. | https://msc.fema.gov/portal/advanceSearch. | Sep. 14, 2023 | 040116
Pima | Town of Marana (21-09-1382P). | The Honorable Ed Honea, Mayor, Town of Marana, 11555 West Civic Center Drive, Marana, AZ 85653. | Engineering Department, Marana Municipal Complex, 11555 West Civic Center Drive, Marana, AZ 85653. | https://msc.fema.gov/portal/advanceSearch. | Aug. 18, 2023 | 040118
Pima | Unincorporated Areas of Pima County (21-09-1382P). | The Honorable Adelita Grijalva, Chair, Board of Supervisors, Pima County, 33 North Stone Avenue, 11th Floor, Tucson, AZ 85701. | Pima County Flood Control District, 201 North Stone Avenue, 9th Floor, Tucson, AZ 85701. | https://msc.fema.gov/portal/advanceSearch. | Aug. 18, 2023 | 040073
California:
Contra Costa | Unincorporated Areas of Contra Costa County (22-09-1286P). | The Honorable John M. Gioia, Chair, Board of Supervisors, Contra Costa County, 11780 San Pablo Avenue, Suite D, El Cerrito, CA 94530. | Contra Costa County, Public Works Department, 255 Glacier Drive, Martinez, CA 94553. | https://msc.fema.gov/portal/advanceSearch. | Aug. 25, 2023 | 060025
Placer | City of Lincoln (22-09-0399P). | The Honorable Paul Joiner, Mayor, City of Lincoln, 600 6th Street, Lincoln, CA 95648. | Community Development Department, 600 6th Street, Lincoln, CA 95648. | https://msc.fema.gov/portal/advanceSearch. | Sep. 22, 2023 | 060241
Placer | Unincorporated Areas of Placer County (22-09-0399P). | The Honorable Jim Holmes, Chair, Board of Supervisors, Placer County, 175 Fulweiler Avenue, Auburn, CA 95603. | Placer County Public Works, 3091 County Center Drive, Suite 220, Auburn, CA 95603. | https://msc.fema.gov/portal/advanceSearch. | Sep. 22, 2023 | 060239
Riverside | City of Moreno Valley (23-09-0026P). | The Honorable Ulises Cabrera, Mayor, City of Moreno Valley, 14177 Frederick Street, Moreno Valley, CA 92553. | Public Works Department, 14177 Frederick Street, Moreno Valley, CA 92552. | https://msc.fema.gov/portal/advanceSearch. | Sep. 12, 2023 | 065074
San Bernardino | City of Colton (22-09-0164P). | The Honorable Frank J. Navarro, Mayor, City of Colton, 650 North La Cadena Drive, Colton, CA 92324. | Public Works Department, 160 South 10th Street, Colton, CA 92324. | https://msc.fema.gov/portal/advanceSearch. | Aug. 25, 2023 | 060273
San Bernardino | City of Grand Terrace (22-09-0164P). | The Honorable Bill Hussey, Mayor, City of Grand Terrace, 22795 Barton Road, Grand Terrace, CA 92313. | City Hall, 22795 Barton Road, Grand Terrace, CA 92313. | https://msc.fema.gov/portal/advanceSearch. | Aug. 25, 2023 | 060737
San Bernardino | City of Yucaipa (23-09-0131P). | The Honorable Justin Beaver, Mayor, City of Yucaipa, 34272 Yucaipa Boulevard, Yucaipa, CA 92399. | City Hall, 34272 Yucaipa Boulevard, Yucaipa, CA 92399. | https://msc.fema.gov/portal/advanceSearch. | Sep. 11, 2023 | 060739
San Bernardino | Unincorporated Areas of San Bernardino County (23-09-0659X). | The Honorable Dawn Rowe, Chair, Board of Supervisors, San Bernardino County, 385 North Arrowhead Avenue, 5th Floor, San Bernardino, CA 92415. | San Bernardino County Public Works, Water Resources Department, 825 East 3rd Street, San Bernardino, CA 92415. | https://msc.fema.gov/portal/advanceSearch. | Aug. 17, 2023 | 060270
San Diego | City of Oceanside (22-09-0347P). | The Honorable Esther C. Sanchez, Mayor, City of Oceanside, 300 North Coast Highway, Oceanside, CA 92054. | City Hall, 300 North Coast Highway, Oceanside, CA 92054. | https://msc.fema.gov/portal/advanceSearch. | Oct. 4, 2023 | 060294
San Diego | City of San Diego (23-09-0195P). | The Honorable Todd Gloria, Mayor, City of San Diego, 202 C Street, 11th Floor, San Diego, CA 92101. | Development Services Department, 1222 1st Avenue, MS 301, San Diego, CA 92101. | https://msc.fema.gov/portal/advanceSearch. | Aug. 22, 2023 | 060295
San Joaquin | Unincorporated Areas of San Joaquin County (22-09-0749P). | The Honorable Robert Rickman, Chair, Board of Supervisors, San Joaquin County, 44 North San Joaquin Street, Stockton, CA 95202. | San Joaquin County, Public Works Department, 1810 East Hazelton Avenue, Stockton, CA 95205. | https://msc.fema.gov/portal/advanceSearch. | Sep. 11, 2023 | 060299
Sonoma | City of Petaluma (22-09-1356P). | The Honorable Kevin McDonnell, Mayor, City of Petaluma, 11 English Street, Petaluma, CA 94952. | Community Development Department, 11 English Street, Petaluma, CA 94952. | https://msc.fema.gov/portal/advanceSearch. | Sep. 25, 2023 | 060379
Florida:
St. Johns | Unincorporated Areas of St. Johns County (22-04-2936P). | Christian Whitehurst, Chair, Board of St. Johns County Commissioners, 500 San Sebastian View, St. Augustine, FL 32084. | St. Johns County Permit Center, 4040 Lewis Speedway, St. Augustine, FL 32084. | https://msc.fema.gov/portal/advanceSearch. | Sep. 22, 2023 | 125147
Idaho:
Bingham | Unincorporated Areas of Bingham County (22-10-0778P). | Whitney Manwaring, Chair, Bingham County Commissioners, 501 North Maple Street #204, Blackfoot, ID 83221. | Bingham County Department of Planning and Zoning, 501 North Maple Street #203, Blackfoot, ID 83221. | https://msc.fema.gov/portal/advanceSearch. | Aug. 24, 2023 | 160018
Bonneville | Unincorporated Areas of Bonneville County (22-10-0778P). | Roger Christensen, Chair, Bonneville County Board of Commissioners, 605 North Capital Avenue, Idaho Falls, ID 83402. | Bonneville County Courthouse, 605 North Capital Avenue, Idaho Falls, ID 83402. | https://msc.fema.gov/portal/advanceSearch. | Aug. 24, 2023 | 160027
Illinois:
Cook | Village of Palatine (22-05-2450P). | The Honorable Jim Schwantz, Mayor, Village of Palatine, 200 East Wood Street, Palatine, IL 60067. | Village Hall, 200 East Wood Street, Palatine, IL 60067. | https://msc.fema.gov/portal/advanceSearch. | Sep. 15. 2023 | 175170
Grundy | City of Morris (23-05-0362P). | The Honorable Chris Brown, Mayor, City of Morris, 700 North Division Street, Morris, IL 60450. | City Hall, 700 North Division Street, Morris, IL 60450. | https://msc.fema.gov/portal/advanceSearch. | Aug. 24, 2023 | 170263
Grundy | Unincorporated Areas of Grundy County (23-05-0362P). | Chris Balkema, Chair, Grundy County Board, Grundy County Administration Building, 1320 Union Street, Morris, IL 60450. | Grundy County Administration Building, 1320 Union Street, Morris, IL 60450. | https://msc.fema.gov/portal/advanceSearch. | Aug. 24, 2023 | 170256
Will | City of Aurora (23-05-0786P). | The Honorable Richard C. Irvin, Mayor, City of Aurora, 44 East Downer Place, Aurora, IL 60505. | City Hall, Engineering Department, 44 East Downer Place, Aurora, IL 60505. | https://msc.fema.gov/portal/advanceSearch. | Aug. 28, 2023 | 170320
Will | Unincorporated Areas of Will County (23-05-0786P). | Jennifer Bertino-Tarrant, Will County Executive, Will County Office Building, 302 North Chicago Street, Joliet, IL 60432. | Will County Land Use Department, 58 East Clinton Street, Suite 100, Joliet, IL 60432. | https://msc.fema.gov/portal/advanceSearch. | Aug. 28, 2023 | 170695
Will | Village of New Lenox (23-05-0608P). | The Honorable Timothy A. Baldermann, Mayor, Village of New Lenox, 1 Veterans Parkway, New Lenox, IL 60451. | Village Hall, 1 Veterans Parkway, New Lenox, IL 60451. | https://msc.fema.gov/portal/advanceSearch. | Sep. 15, 2023 | 170706
Will | Village of Romeoville (23-05-0857P). | The Honorable John D. Noak, Mayor, Village of Romeoville, 1050 West Romeo Road, Romeoville, IL 60446. | Village Hall, 1050 West Romeo Road, Romeoville, IL 60446. | https://msc.fema.gov/portal/advanceSearch. | Oct. 2, 2023 | 170711
Minnesota:
Dakota | City of Lakeville (22-05-2756P). | The Honorable Luke Hellier, Mayor, City of Lakeville, 20195 Holyoke Avenue, Lakeville, MN 55044. | City Hall, 20195 Holyoke Avenue, Lakeville, MN 55044. | https://msc.fema.gov/portal/advanceSearch. | Sep. 5, 2023 | 270107
Mower | City of Austin (21-05-3696P). | The Honorable Steve King, Mayor, City of Austin, 500 4th Avenue Northeast, Austin, MN 55912. | City Hall, 500 4th Avenue Northeast, Austin, MN 55912. | https://msc.fema.gov/portal/advanceSearch. | Sep. 15, 2023 | 275228
Mower | Unincorporated Areas of Mower County (21-05-3696P). | Jeff Baldus, Chair, Mower County Board of Commissioners, 201 1st Street Northeast, Austin, MN 55912. | Mower County Government Center, 201 1st Street Northeast, Austin, MN 55912. | https://msc.fema.gov/portal/advanceSearch. | Sep. 15, 2023 | 270307
Nevada:
Clark | Unincorporated Areas of Clark County (23-09-0077P). | The Honorable James B. Gibson, Chair, Board of Commissioners, Clark County, 500 South Grand Central Parkway, 6th Floor, Las Vegas, NV 89155. | Clark County, Office of the Director of Public Works, 500 South Grand Central Parkway, 2nd Floor, Las Vegas, NV 89155. | https://msc.fema.gov/portal/advanceSearch. | Aug. 22, 2023 | 320003
Ohio:
Warren | City of South Lebanon (22-05-2951P). | The Honorable James Smith, Mayor, City of South Lebanon, 10 North High Street, South Lebanon, OH 45065. | Administration Building, 10 North High Street, South Lebanon, OH 45065. | https://msc.fema.gov/portal/advanceSearch. | Sep. 5, 2023 | 390563
Warren | Unincorporated Area of Warren County (22-05-2951P). | Tom Grossmann, Commissioner, Warren County Board of County Commissioners, 406 Justice Drive, Lebanon, OH 45036. | Warren County, Regional Planning Commission, 406 Justice Drive, Lebanon, OH 45036. | https://msc.fema.gov/portal/advanceSearch. | Sep. 5, 2023 | 390757
Oregon:
Josephine | Unincorporated Areas of Josephine, County (22-10-0743P). | Herman Baertschiger, Jr., Chair, Josephine County Board of Commissioners, Josephine County Courthouse, 500 Northwest 6th Street, Grant Pass, OR 97526. | Josephine County Planning Department, 700 Northwest Dimmick Street, Suite C, Grant Pass, OR 97526. | https://msc.fema.gov/portal/advanceSearch. | Aug. 10, 2023 | 415590
Texas:
Dallas | City of Wilmer (22-06-0840P). | The Honorable Sheila Petta, Mayor, City of Wilmer, 128 North Dallas Avenue, Wilmer, TX 75172. | Dallas County Public Works Department, 411 Elm Street, 4th Floor, Dallas, TX 75202. | https://msc.fema.gov/portal/advanceSearch. | Sep. 8, 2023 | 480190
Montgomery | Unincorporated Areas of Montgomery County (22-06-1749P). | The Honorable Mark B. Keough, County Judge, Montgomery County, 501 North Thompson Suite 401, Conroe, TX 77301. | Montgomery County Administration Building, 501 North Thompson Suite 401, Conroe, TX 77301. | https://msc.fema.gov/portal/advanceSearch. | Sep. 11, 2023 | 480483
Tarrant | City of Arlington (22-06-2387P). | The Honorable Jim Ross, Mayor, City of Arlington, P.O. Box 90231, Arlington, TX 76010. | City Hall, 101 West Abram Street, Arlington, TX 76010. | https://msc.fema.gov/portal/advanceSearch. | Aug. 31, 2023 | 485454
Wisconsin:
Brown | City of De Pere (23-05-0990P). | The Honorable James Boyd, Mayor, City of De Pere, City Hall, 335 South Broadway, De Pere, WI 54115. | City Hall, 335 South Broadway, De Pere, WI 54115. | https://msc.fema.gov/portal/advanceSearch. | Sep. 25, 2023 | 550021
Brown | City of Green Bay (23-05-0990P). | The Honorable Eric Genrich, Mayor, City of Green Bay, City Hall, 100 North Jefferson Street, Green Bay, WI 54301. | City Hall, 100 North Jefferson Street, Green Bay, WI 54301. | https://msc.fema.gov/portal/advanceSearch. | Sep. 25, 2023 | 550022
Brown | Village of Ashwaubenon (23-05-0990P). | The Honorable Mary Kardoskee, President, Village of Ashwaubenon, 2155 Holmgren Way, Ashwaubenon, WI 54304. | Village Hall, 2155 Holmgren Way, Ashwaubenon, WI 54304. | https://msc.fema.gov/portal/advanceSearch. | Sep. 25, 2023 | 550600
Kenosha | Village of Somers (22-05-3273P). | The Honorable George Stoner, President, Board of Trustees, Village of Somers, 135 22nd Avenue, Kenosha, WI 53140. | Village Hall, 7511 12th Street, Kenosha, WI 53144. | https://msc.fema.gov/portal/advanceSearch. | Aug. 16, 2023 | 550406

[FR Doc. 2023-14633 Filed 7-10-23; 8:45 am]

BILLING CODE 9110-12-P